DEPARTMENT OF JUSTICE

Notice of Lodging of Consent Decree Under the Comprehensive Environmental Response, Compensation and Liability Act

Notice is hereby given that on December 29, 2008, a proposed Consent Decree in United States v. Amana Co. L.P., et al., Civil Action No. 08-cv-6000 was lodged with the United States District Court for the Eastern District of Pennsylvania.

In this action the United States sought reimbursement of response costs incurred in connection with property known as the Novak Sanitary Landfill Superfund Site (the “Site”), located in South Whitehall Township, Lehigh County, Pennsylvania. The Consent Decree obligates the Settling Defendants to reimburse $862,050 of the United States' past response costs paid in connection with the Site from January 10, 1998 through September 30, 2006, and all response costs paid or to be paid after that date.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Amana Co. L.P., et al., Civil Action No. 08-cv-6000, D.J. Ref. 90-11-2-976/1.

The Consent Decree may be examined at the Office of the United States Attorney, Eastern District of Pennsylvania, 615 Chestnut Street, Suite 1250, Philadelphia, PA 19106, and at U.S. EPA Region 3. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $20.00 (@ 25 cents per page reproduction cost) payable to the U.S. Treasury or, if by e-mail or fax, forward a check in that amount to the Consent Decree Library at the stated address.

Bob Brook,
Assistant Chief, Environmental Enforcement Section, Environment and Natural Resources, Division.

[FR Doc. E9-188 Filed 1-8-09; 8:45 am]

BILLING CODE 4410-CW-P